DEPARTMENT OF THE INTERIOR

National Park Service

[NPS-WASO-NAGPRA-12434; PCU00RP14.R50000-PPWOCRADN0]

Notice of Inventory Completion: University of Pennsylvania Museum of Archaeology and Anthropology, Philadelphia, PA

AGENCY: National Park Service, Interior.

ACTION: Notice.

SUMMARY: The University of Pennsylvania Museum of Archaeology and Anthropology has completed an inventory of human remains, in consultation with the appropriate Indian tribes, and has determined that there is a cultural affiliation between the human remains and present-day Indian tribes. Representatives of any Indian tribe that believes itself to be culturally affiliated with the human remains may contact the University of Pennsylvania Museum of Archaeology and Anthropology. Repatriation of the human remains to the Indian tribes stated below may occur if no additional claimants come forward.

DATES: Representatives of any Indian tribe that believes it has a cultural affiliation with the human remains should contact the University of Pennsylvania Museum of Archaeology and Anthropology at the address below by April 29, 2013.

ADDRESSES: Dr. Julian Siggers, University of Pennsylvania Museum of Archaeology and Anthropology, Philadelphia, PA 19104-6324, telephone (215) 898-4050.

SUPPLEMENTARY INFORMATION: Notice is here given in accordance with the Native American Graves Protection and Repatriation Act (NAGPRA), 25 U.S.C. 3003, of the completion of an inventory of human remains in the possession of the University of Pennsylvania Museum of Archaeology and Anthropology, Philadelphia, PA. The human remains were removed from unknown sites in Polk County, TN, Gilmer County, GA, and Cherokee County, NC.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the University of Pennsylvania Museum of Archaeology and Anthropology professional staff in consultation with representatives of the Cherokee Nation; Eastern Band of Cherokee Indians; and the United Keetoowah Band of Cherokee Indians in Oklahoma.

History and Description of the Remains

At an unknown date, human remains representing, at minimum, two individuals were removed by an unknown individual from a cave near the Hiwassee River between Fort Butler in Murphy, NC, and Fort Cass in Charleston, TN, near Springtown, (today Reliance) in Polk County, TN. According to museum and archival documents, the remains were discovered in a cave near an ancient battleground north of the Hiwassee River. No known individuals were identified. No associated funerary objects are present.

At an unknown date, human remains representing, at minimum, two individuals were removed from an unknown location near the town of Ellijay, along the Ellijay River, in Gilmer County, GA, by an unknown individual. Museum documentation indicates the remains were not buried and may have been removed from a cave or rock-shelter context. No known individuals were identified. No associated funerary objects are present.

Dr. Joel Martin, U.S. Army Medical Director at Fort Cass, obtained all of the remains above sometime after May 16, 1838, but prior to August 1, 1838. Dr. Martin subsequently sent the remains to Dr. Samuel G. Morton, who accessioned these remains into his collection prior to 1839. From approximately 1830 until Dr. Morton's death in 1851, the Academy of Natural Sciences in Philadelphia provided storage space for Dr. Morton's collection.

At an unknown date prior to June 1846, human remains representing, at minimum, two individuals were removed from a mound in Cherokee County, NC, by Dr. James F.E. Hardy of Asheville, NC. Dr. Hardy sent the remains to Dr. Samuel G. Morton for inclusion in his study of human crania. Dr. Morton donated the remains to the Academy of Natural Sciences in Philadelphia on June 9, 1846. Archival documentation describes one of the individuals as “an Indian well known in the County * * * He was one of the greatest ball players in his tribe. While playing ball he slipped & fell & dislocated his spine & died immediately.” Museum documentation and a physical assessment of the remains identified trauma consistent with the injuries in this account and injuries one might receive while playing the Cherokee stickball game. Historical records and consultation information give accounts of men being seriously injured and dying while playing the Cherokee stickball game. No known individuals were identified. No associated funerary objects are present.

In 1853, Dr. Morton's collection, including all of the remains described above, was purchased from Dr. Morton's estate and formally presented to the Academy of Natural Sciences. In 1966, Dr. Morton's collection was loaned to the University of Pennsylvania Museum of Archaeology and Anthropology. In 1997, the collection was formally gifted to the University of Pennsylvania Museum.

The human remains have been identified as Native American based on the specific cultural and geographic attribution in the museum records. Collector's records, museum documentation, and published sources (Morton 1839, 1840, and 1849; Meigs 1857) identify the human remains above as Cherokee. According to consultation information, historically, the Cherokee buried their deceased; however, certain circumstances may have prevented this from happening. Thus, consultation and archival documentation reveal that human remains found in cave or rock shelter contexts are not uncommon during the Historic Period when forced removal and epidemics resulted in the deaths of many Cherokee individuals beginning in 1735 through the Removal Period. Scholarly publications, land cession records, and consultation information indicate that the areas from which the human remains were removed are within the traditional aboriginal territory of the Cherokee Indians and many known historic Cherokee occupation sites within these areas have been identified.

Determinations Made by the University of Pennsylvania Museum of Archaeology and Anthropology

Officials of the University of Pennsylvania Museum of Archaeology and Anthropology have determined that:

• Pursuant to 25 U.S.C. 3001(9), the human remains described in this notice represent the physical remains of six individuals of Native American ancestry.

• Pursuant to 25 U.S.C. 3001(2), there is a relationship of shared group identity that can be reasonably traced between the Native American human remains and the Cherokee Nation; Eastern Band of Cherokee Indians; and the United Keetoowah Band of Cherokee Indians in Oklahoma.

Additional Requestors and Disposition

Representatives of any Indian tribe that believes itself to be culturally affiliated with the human remains should contact Dr. Julian Siggers, Director, University of Pennsylvania Museum of Archaeology & Anthropology, University of Pennsylvania, 3260 South Street, Philadelphia, PA 19104, telephone (215) 898-4050, before April 29, 2013. Repatriation of the human remains to the Cherokee Nation; Eastern Band of Cherokee Indians; and the United Keetoowah Band of Cherokee Indians in Oklahoma may proceed after that date if no additional claimants come forward.

The University of Pennsylvania Museum of Archaeology & Anthropology is responsible for notifying the Cherokee Nation; Eastern Band of Cherokee Indians; and the United Keetoowah Band of Cherokee Indians in Oklahoma that this notice has been published.

Dated: February 26, 2013.
Sherry Hutt,
Manager, National NAGPRA Program.

[FR Doc. 2013-07356 Filed 3-28-13; 8:45 am]

BILLING CODE 4312-50-P